DEPARTMENT OF COMMERCE

National Oceanic and Atmospheric Administration

Proposed Information Collection; Comment Request; Alaska Region Amendment 80 Permits and Reports

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 10, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Stephanie Warpinski, 907-586-7228.

SUPPLEMENTARY INFORMATION:

I. Abstract

This request is for extension of a currently approved information collection.

Amendment 80 to the Fishery Management Plan for Groundfish of the Bering Sea and Aleutian Islands Management Area allocates several Bering Sea and Aleutian Islands Management Area non-pollock trawl groundfish fisheries among trawl fishery sectors, established a limited access privilege program, and facilitated the formation of harvesting cooperatives in the non-American Fisheries Act (non-AFA) trawl catcher/processor sector.

The Amendment 80 Program encourages the formation of cooperatives and cooperative fishing practices among all persons holding Amendment 80 quota share (QS) permits. The cooperatives that receive allocations of cooperative quota (CQ) allow vessel operators to make operational choices to improve fishery returns, reduce prohibited species catch usage, and reduce fish discards.

This information collection is necessary to manage participation in the Amendment 80 Program. This collection contains applications used by persons to apply for QS, to apply for an Amendment 80 limited access fishery permit, and to transfer QS; by cooperatives to apply for CQ and transfer CQ; by cooperatives or CDQ groups to exchange CQ for one eligible flatfish species with CQ of a different eligible flatfish species; and by Amendment 80 vessel owners to replace their vessels. Additionally, this collection includes the process used to appeal an application that is denied.

II. Method of Collection

The applications are available as fillable PDFs on the NMFS Alaska Region website at https://alaskafisheries.noaa.gov/fisheries-applications that may be downloaded, printed, and faxed or mailed to NMFS. The Flatfish Exchange Application must be submitted online through eFISH on the NMFS Alaska Region website at https://alaskafisheries.noaa.gov/webapps/efish/login. The Application for Inter-cooperative Transfer of Amendment 80 CQ is submitted to NMFS through eFISH with the option to mail, fax, or deliver the application. The appeals letter must be submitted by mail or delivery. All other elements of this collection may be submitted to NMFS by mail, fax, or delivery.

III. Data

OMB Control Number: 0648-0565.

Form Number(s): None.

Type of Review: Regular submission (extension of a current information collection).

Affected Public: Business or other for-profit organizations; Individuals or households.

Estimated Number of Respondents: 33.

Estimated Time per Response: 2 hours each for Application for Amendment 80 QS, Application for Amendment 80 CQ Permit, Application for Amendment 80 Limited Access Fishery Permit, Application to Transfer Amendment 80 QS, Application for Amendment 80 Vessel Replacement, and Application for Inter-cooperative Transfer of Amendment 80 CQ; 4 hours for Amendment 80 appeals letter; 5 minutes for Flatfish Exchange Application.

Estimated Total Annual Burden Hours: 130 hours.

Estimated Total Annual Cost to Public: $129 in recordkeeping and reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 28, 2018.
Sarah Brabson,
NOAA PRA Clearance Officer.

[FR Doc. 2018-21522 Filed 10-5-18; 8:45 am]

BILLING CODE P